DEPARTMENT OF HEALTH AND HUMAN SERVICES

Centers for Disease Control and Prevention

[Program Announcement 00065]

American Indian/Alaska Native Support Centers for Tobacco Programs; Notice of Availability of Funds

A. Purpose

The Centers for Disease Control and Prevention (CDC) announces the availability of funds for fiscal year 2000 for cooperative agreements with American Indian/Alaska Native (AI/AN) tribes, tribal organizations, including urban, and eligible inter-tribal consortia. The purpose of the funds is to develop or improve tobacco-related resource networks and outreach to AI/AN tribes. This will enable tribal communities to address and impact the high rates of tobacco use in this population. Assistance to tribes may consist of training and technical assistance, networking and partnership building, and promoting collaboration with other tribes, national organizations (e.g., American Cancer Society, American Lung Association), States and the Federal government.

CDC is committed to achieving the health promotion and disease prevention objectives of Healthy People 2010, a national activity to reduce morbidity and mortality and improve quality of life. This announcement is related to the focus area of Tobacco Use. For the conference copy of “Healthy People 2010” visit the internet site: <http://www.health.gov/healthypeople>.

B. Eligible Applicants

Eligible applicants are AI/AN tribes, tribal organizations, including urban and eligible inter-tribal consortia. An individual AI/AN tribe or urban center is eligible to apply if its tribal population is at least 60,000 or if it represents other regional AI/AN tribes or urban populations with a combined population of at least 60,000. Tribal organizations and inter-tribal consortia are eligible if they represent tribes within a region with a combined population of at least 60,000 and if they are incorporated for the primary purpose of improving AI/AN health and represent such interests for the tribes or urban Indian communities located in its region. AI/AN tribes or urban communities represented may be located in one state or in multiple states. An urban organization is defined as a non-profit corporate body situated in an urban center eligible for services under Title V of the Indian Health Care Improvement Act, PL 94-437, as amended. Applicants should submit with application an executive summary of not more than one page and a completed and signed Eligibility Certification Form (see addendum 3 in the application package). The Eligibility Certification Form is a checklist, which will define your eligibility.

Competition is limited to those identified under “Eligible Applicants” because of the problems posed by tobacco use as evidenced by high prevalence, tobacco-related morbidity and mortality and the unique challenges faced by this population for tobacco control and prevention (see addendum 2 in the application package).

Pre-Application Telephone Conference

Applicants are invited by CDC to participate in a pre-application technical assistance telephone conference June 30, 2000 promptly at 2:00 p.m.(Eastern time) to discuss: programmatic issues regarding this program; how to apply; and questions regarding the content of the program announcement. This telephone conference is expected to last one hour. The conference name is Tobacco RFA. The telephone bridge number for Federal participants is 404-639-3277 for non-Federal participants call 1-800-311-3437. Participants will need to enter the following conference code when prompted to be connected #345150. All questions and comments will be recorded and published on the Internet at http://www.cdc.gov/funding as an attachment to this program announcement.

Note: Public Law 104-65 states that an organization described in section 501(c)(4) of the Internal Revenue Code of 1986 that engages in lobbying activities is not eligible to receive Federal funds constituting an award, grant, cooperative agreement, contract, loan or any other form.

C. Availability of Funds

Approximately $1,000,000 is available in FY 2000 to fund five to six awards. It is expected that the average annual award will be $170,000, ranging from $125,000 to $200,000. This award amount includes expenses for indirect costs. It is expected that the awards will begin September 30, 2000 and will be made for a 12-month budget period within a project period of up to five years.

Continuation awards within an approved project period will be made on the basis of satisfactory progress as evidenced by required reports and the availability of funds.

Funding Preference

Funding preference will be given to the geographical areas defined by the Indian Health Service which demonstrate need based on high prevalence, high tobacco-related morbidity and mortality; which lack tobacco control initiatives and culturally appropriate resources; and which show early initiation of commercial tobacco use among young people. CDC will fund up to six awards, only one award will be made within a geographical area.

D. Program Requirements

In conducting activities to achieve the goals and objectives of this program, the recipient will be responsible for the activities under 1 (Recipient Activities), and CDC will be responsible for the activities listed under 2 (CDC Activities).

1. Recipient Activities

(a) Establish a technical support center and assist tribes with tobacco control needs such as data collection, resource identification and distribution, training and educational development, and surveillance and evaluation. Provide technical assistance to tribes in developing and conducting local tobacco control programs aimed at reducing the prevalence of commercial tobacco use through social and environmental changes.

(b) Facilitate the development of tobacco prevention and control skills in represented tribes. This may be accomplished through training, leadership education, public education, or other approaches culturally appropriate for the tribes. Recipients may also provide fiscal assistance to tribes, schools and other AI/AN organizations for planning, implementing and evaluating local tobacco control activities.

(c) Participate in a network of local tribal tobacco control programs, to promote and facilitate collaborative efforts among programs, as well as, with other AI/AN tribes and organizations nationwide who are involved in similar programs. Assist tribes in establishing formal and informal linkages where appropriate with national, State, and local tobacco control organizations, networks, or coalitions (e.g., State health departments, American Cancer Society, American Lung Association, Smokeless States, National Center for Tobacco Free Kids, etc.).

(d) Assist tribes in planning and implementing tobacco control activities, which address at least two of the four CDC Office on Smoking and Health's priority goals:

(1) Prevent initiation among young people;

(2) Promote quitting among adults and youth;

(3) Eliminate exposure to environmental tobacco smoke;

(4) Identify and eliminate disparities among populations.

2. CDC Activities

(a) In collaboration with the Indian Health Service, as needed, provide appropriate training on tobacco control and prevention strategies (e.g., building partnerships, implementing guidelines and model programs on clean indoor air protection and reducing the sale of tobacco products to minors) which prepare tribes to mobilize and engage in tobacco control initiatives.

(b) Provide technical assistance through conference calls, resource material, training, and updated information, as needed. Facilitate communications locally, regionally, and nationally regarding resources and other opportunities involving tobacco control.

(c) Participate in the evaluation of activities and initiatives, including annual site visits.

E. Application Content

Use the information in the Program Requirements, Other Requirements, and Evaluation Criteria sections to develop the application content. Your application will be evaluated on the criteria listed, so it is important to follow them in laying out your program plan. Submit an original and two copies of the application, unstapled, and unbound. The narrative should be no more than 30 double-spaced pages, printed on one side, with one-inch margins, and unreduced font. The thirty pages do not include budget, appended pages or items placed within appended pages such as resumes, letters of support, etc.

The application should include the following:

1. Program Description

(a) Describe the applicant's tribe, organization or consortia, including purpose or mission, years of existence, and experience in representing the health-related interests of the represented tribes.

(b) Describe the represented tribes, including:

(1) The population size of the total tribes represented as well as that of individual tribes.

(2) The represented tribes' geographical locations, their proximity to you and how you plan to reach the tribes.

2. Need To Address Tobacco Control

(a) Describe the needs for developing tobacco control programs among the represented tribes and how the applicant will assist tribes in addressing identified needs. The information provided should describe the following:

(1) Applicants should discuss the extent of the tobacco use problem in their represented tribes, including discussion of prevalence rates and any variations in prevalence among represented tribes, morbidity and/or mortality associated with tobacco use, early initiation of tobacco use among young people, and other evidence of the problem.

(2) Applicants should describe the need for tobacco control strategies that are appropriate for their populations, including discussion of the challenges, limitations and/or opportunities for implementing tobacco control.

(3) Applicants should describe the need to develop a comprehensive and sustainable tobacco control program, among the represented tribes.

3. Goals and Objectives

(a) Goals: List realistic goals that will be achievable over the five-year project period.

(b) Objectives: List objectives for each of the recipient activities for the budget period (one-year). Objectives should be specific, measurable, achievable, relevant and time-phased.

4. Annual Action Plan

(a) Submit a plan that identifies specific activities for each objective during the budget period. This plan must describe how the applicant will achieve the activities, and who will be targeted with each activity.

(b) Identify staff responsible for completing each activity, timelines, and evaluation.

(c) Applicants are encouraged to use the annual action plan form, included as addendum 5, to address key components of their plan. A sample annual action plan is included as (addendum 4 in the application package).

5. Capacity

(a) Submit a letter of commitment from the represented tribes' leadership, which indicates the tribe's willingness to participate in the program.

(b) Describe the purpose and goals and how the applicant communicates and disseminates information and guidance to the represented tribes and their membership (e.g., newsletters, conferences, and meeting minutes).

(c) Submit a copy of the applicant's organizational chart and describe the existing structure and how it supports the development of a tobacco control agenda and programs.

(d) Describe how applicant will manage the project to accomplish recipient activities.

(e) Describe the proposed project staffing. Provide job descriptions and indicate if they are for existing or proposed positions. Staffing should include the commitment of at least one full-time staff member to provide direction for the proposed activities. Demonstrate that the staff member(s) have the professional background, experience, and organizational support needed to fulfill the proposed responsibilities. Include a curriculum vitae for each staff member.

(f) Applicants should describe experience in community development, including, but not limited to:

(1) Current and past experience in providing leadership in the development of health-related programs, training programs or health promotion campaigns.

(2) Current and past experience in the area of tobacco prevention and control, including descriptions of activities and initiatives implemented.

(3) Current and past experience in networking and in building partnerships and alliances with other organizations.

(4) Ability to provide support, outreach, and technical assistance on health-related matters to the represented tribes.

6. Evaluation

(a) Provide a plan for monitoring progress in meeting the program requirements.

(1) Describe how the applicant will determine effectiveness of the technical support center, especially in building capacity for tobacco control among the represented tribes (e.g., the number and comprehensiveness of the tribal tobacco control program development, the sustainability of such programs, the frequency and nature of services to support and sustain such programs).

(2) Describe how the applicant will document tobacco control skill development among tribes (e.g., number of trainings conducted, level of difficulty of the training and their rationale, evidence of acquired skills through application, and the impact on program objectives).

(3) Describe how the applicant will assess the quantity and quality of networking efforts (e.g., number of planning meetings or meeting with leadership and the degree of collaboration with leadership and other tobacco control programs and organizations).

(4) Describe how the applicant will assess performance toward addressing two of the four Office on Smoking and Health priority goals.

(b) Evaluation of program performance should include:

(1) Process evaluation: Applicants should describe how they plan to measure the implementation and progression of various activities in achieving the objectives during each twelve-month budget period. Description should include any current available sources of data, instruments to be used for new data collection, as well as specifics of data collection (e.g., sample sizes, selection, and analyses).

(2) Outcome evaluation: Applicants should describe how they plan to measure the outcome of their goals and objectives.

7. Budget and Accompanying Justification

(a) Provide a detailed budget and line item justification that is consistent with the stated objectives and planned activities. To the extent possible, applicants are encouraged to include budget items for the following:

(1) Travel for 1-2 persons to attend and participate in the week-long Training Institute or the 3-day National Tobacco Control Conference held annually.

(2) One trip to Atlanta, GA, for 1-2 persons, to attend a training and technical assistance workshop.

F. Submission and Deadline

Application

Submit the original and two copies of PHS 5161-1 (OMB Number 0937-0189) and the signed Eligibility Certification Form (see addendum 3 in the application package). The Eligibility Certification Form is a checklist, which will define your eligibility. Forms are available at the following Internet address: http://www.cdc.gov/od/pgo/forminfo.htm, or the application kit. On or before July 24, 2000, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications, which do not meet the criteria in (a) or (b) above, are considered late applications, will not be considered, and will be returned to the applicant.

G. Evaluation Criteria (100 Points)

An independent review group appointed by CDC will evaluate each application individually according to the following criteria.

1. Program Description (5 Points)

The extent to which the applicant clearly defines itself and its relationship to the represented tribes, including its past experiences and future plans to reach and work with the target populations.

2. Need To Address Tobacco Control (25 Points)

The extent of the need for tobacco control program development for both the applicant and the represented tribes.

3. Goals and Objectives (15 Points)

The extent to which the goals and objectives are consistent with the purpose of the announcement and are achievable. The extent to which the objectives in the annual plan are specific, measurable, achievable, relevant and time-phased and likely to be accomplished during the first 12-month budget period.

4. Annual Action Plan (20 Points)

The feasibility, appropriateness, and extent to which the Plan describes:

(a) Organizational involvement in program activities;

(b) Activities likely to achieve objectives during the one-year budget period;

(c) Roles and responsibilities of staff person(s) in addressing the recipient activities;

(d) Timelines for completing proposed activities;

(e) Proposed linkages with other tobacco control networks (e.g., tribal, other public or private organizations) in carrying out the action plan.

5. Capacity (25 Points)

The extent of the applicant's capacity and ability to conduct the activities as evidenced by:

(a) Statement of commitment by tribes and communication of purpose and goals between the applicant and represented tribes;

(b) The organizational chart, structure, and support for tobacco program development;

(c) Management plan to accomplish recipient activities;

(d) Current and/or proposed project staff and job descriptions;

(e) Professional background and experience of current or proposed staff;

(f) Past experiences in providing leadership in the development of health-related programs, in building partnerships and alliances and in networking with public and private agencies.

6. Evaluation (10 Points)

The extent and appropriateness of the evaluation plan in measuring progress toward achieving objectives as well as in determining the degree to which program requirements are being met.

7. Budget and Accompanying Justification (Not Scored)

The extent to which the applicant provides a detailed and clear budget consistent with the stated objectives and work plan.

H. Other Requirements

Technical Reporting Requirements

Provide CDC with an original plus two copies of a progress report on a semi-annual basis. Progress reports are required no later than 30 days after the end of the first six months of the budget period, and 30 days after the end of the twelve-month budget period. The progress reports must include the following for each goal and objective:

1. Comparison of actual accomplishments to the objectives established for the period;

2. Reasons for not meeting any established objectives;

3. Other pertinent information, including explanations of any unexpected events or costs.

A Financial Status Report (FSR) is required no later than 90 days after the end of each budget period. The final FSR and progress report is required no later than 90 days after the end of the project period. Send all reports to the Grants Management Specialist identified in the “Where to Obtain Additional Information” section of this announcement. All reports must be submitted to the Grants Management Branch, Procurement and Grants Office, CDC.

The following additional requirements are applicable to this program. For a complete description of each, see Addendum I in the application package.

AR-7 Executive Order 12372 Review

AR-9 Paperwork Reduction Act

AR-10 Smokefree Workplace Requirements

AR-11 Healthy People 2010

AR-12 Lobbying Restrictions

I. Authority and Catalog of Federal Domestic Assistance Number

This program is authorized under sections, 301(a) and 317(k)(2) [42 U.S.C., section, 241(a), and 247b(k)(2)]of the Public Health Service Act, as amended. The catalog of Federal Domestic Assistance number 93.283.

J. Where To Obtain Additional Information

This and other CDC announcements can be found on the CDC home page Internet address—http://www.cdc.gov, click on “funding” then “Grants and Cooperative Agreements.”

If you have questions after reviewing the contents of all documents, business management technical assistance may be obtained from:

Kimberly Pope, Grants Management Specialist, Grant Management Branch, Procurement and Grants Office, Centers for Disease Control and Prevention, 2920 Brandywine Road, Room 3000, Atlanta, GA 30341-4146, Telephone: (770) 488-2767, FAX: (770) 488-2777, Email address: kgp6@cdc.gov

Program technical assistance may be obtained from:

Lorene Reano, CDC-Indian Health Service Tobacco Control Program, 5300 Homestead Road NE, Albuquerque, NM 87110, Telephone: (505) 248-4134, E-mail address: lorene.reano@mail.ihs.gov

or

Victor Medrano, CDC Office on Smoking and Health, 4770 Buford Highway, NE, Atlanta, GA 30341-3717, Telephone: (770) 488-1125, E-mail address: vdm6@cdc.gov.

Dated: June 19, 2000.
John L. Williams,
Director, Procurement and Grants Office, Centers for Disease Control and Prevention.

[FR Doc. 00-16034 Filed 6-23-00; 8:45 am]

BILLING CODE 4163-18-P